NATIONAL AERONAUTICS AND SPACE ADMINISTRATION

[Notice 13-012]

NASA Advisory Council; Commercial Space Committee; Meeting

AGENCY: National Aeronautics and Space Administration.

ACTION: Notice of meeting.

SUMMARY: In accordance with the Federal Advisory Committee Act, Public Law 92-462, as amended, the National Aeronautics and Space Administration (NASA) announces a meeting of the Commercial Space Committee of the NASA Advisory Council (NAC). This Committee reports to the NAC. The meeting will be held for the purpose of soliciting, from the scientific community and other persons, scientific and technical information relevant to program planning.

DATES: Friday, March 1, 2013, 8:00 a.m.-11:30 a.m., Local Time.

ADDRESSES: Embassy Suites—Denver Tech Center, Belleview Room, 10250 E Costilla Avenue, Centennial, CO 80112

FOR FURTHER INFORMATION CONTACT: Mr. Thomas W. Rathjen, Human Exploration and Operations Mission Directorate, NASA Headquarters, Washington, DC 20546, (202) 358-0552, fax (202) 358-2885, or thomas.rathjen-1@nasa.gov or Mr. David M. Lengyel, Human Exploration and Operations Mission Directorate, NASA Headquarters, Washington, DC 20546, (202) 358-0391, fax (202) 358-2682, or dlengyel@hq.nasa.gov.

SUPPLEMENTARY INFORMATION: The meeting will be open to the public up to the capacity of the room. This meeting is also available telephonically and by WebEx. Any interested person may call the USA toll free conference call number (866) 818-9721 or toll number (210) 339-6199, pass code 030113, to participate in this meeting by telephone. The WebEx link is https://nasa.webex.com/, the meeting number is 997 916 761, and the password is CommSpace@0301.

The agenda for the meeting includes the following topics:

—International Space Station Utilization Status and Plans

—Description of NASA's Agency Level Commercialization Study Plans

It is imperative that the meeting be held on these dates to accommodate the scheduling priorities of the key participants. U.S. citizens, Permanent Resident (green card holders), and foreign nationals can attend this meeting without prior registration. Public attendees will be required to sign-in; parking at the Embassy Suites Denver Tech Center is free.

Patricia D. Rausch,
Advisory Committee Management Officer, National Aeronautics and Space Administration.

[FR Doc. 2013-03209 Filed 2-12-13; 8:45 am]

BILLING CODE 7510-13-P